DEPARTMENT OF ENERGY

Federal Energy Regulatory Commission

[Docket No. EL19-79-000]

LSP Transmission Holdings II, LLC, Cardinal Point Electric, LLC, LS Power Midcontinent, LLC v. Midcontinent Independent System Operator, Inc.; Notice of Complaint

Take notice that on June 5, 2019, pursuant to sections 206, 306 and 309 of the Federal Power Act 16 U.S.C. 824e, 825e and 825h and Rule 206 of the Federal Energy Regulatory Commission's (Commission) Rules of Practice and Procedure, 18 CFR 385.206, LSP Transmission Holdings II, LLC, Cardinal Point Electric, LLC and LS Power Midcontinent, LLC (collectively, LS Power or Complainants) filed a formal complaint against Midcontinent Independent System Operator, Inc. (MISO or Respondent) requesting that the Commission direct MISO to make modifications to its transmission planning process, all as more fully explained in the complaint.

LS Power certifies that copies of the Complaint were served on the contacts for MISO as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answers and all interventions, or protests must be filed on or before the comment date. The Respondents' answers, motions to intervene, and protests must be served on the Complainant.

The Commission encourages electronic submissions of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5 p.m. Eastern Time on June 25, 2019.

Dated: June 6, 2019.
Kimberly D. Bose,
Secretary.

[FR Doc. 2019-12398 Filed 6-11-19; 8:45 am]

BILLING CODE 6717-01-P